DEPARTMENT OF COMMERCE

Bureau of Industry and Security

Azur Air, Office 29, Vzletnaya St. 57, Krasnoyarsk, Russia 660020; Modification of September 20, 2024 Renewal of Temporary Denial Order

Pursuant to section 766.24 of the Export Administration Regulations, 15 CFR parts 730-774 (“EAR” or “the Regulations”),¹ I hereby grant the request of the Office of Export Enforcement (“OEE”) to modify the order issued on September 20, 2024 renewing the temporary denial order (“TDO”) in this matter (“September 20, 2024 renewal order”).² OEE has requested a modification of the existing TDO to update the address from

¹ On August 13, 2018, the President signed into law the John S. McCain National Defense Authorization Act for Fiscal Year 2019, which includes the Export Control Reform Act of 2018, 50 U.S.C. 4801-4852 (“ECRA”). While section 1766 of ECRA repeals the provisions of the Export Administration Act, 50 U.S.C. app. section 2401 et seq. (“EAA”), (except for three sections which are inapplicable here), section 1768 of ECRA provides, in pertinent part, that all orders, rules, regulations, and other forms of administrative action that were made or issued under the EAA, including as continued in effect pursuant to the International Emergency Economic Powers Act, 50 U.S.C. 1701 et seq. (“IEEPA”), and were in effect as of ECRA's date of enactment (August 13, 2018), shall continue in effect according to their terms until modified, superseded, set aside, or revoked through action undertaken pursuant to the authority provided under ECRA. Moreover, section 1761(a)(5) of ECRA authorizes the issuance of temporary denial orders. 50 U.S.C. 4820(a)(5).

² The September 20, 2024 renewal order was published on September 25, 2024 (89 FR 78280).

Azur Air, Sharypovo Airport, 404/1 Kozhevnicheskiy Lane, Moscow, Russia

To

Azur Air, Office 29, Vzletnaya St. 57, Krasnoyarsk, Russia 660020

I. Procedural History

On April 7, 2022, Matthew S. Axelrod, the then-Assistant Secretary of Commerce for Export Enforcement, signed an order denying Azur export privileges for a period of 180 days on the ground that issuance of the order was necessary in the public interest to prevent an imminent violation of the Regulations. The order was issued ex parte pursuant to section 766.24(a) of the Regulations and was effective upon issuance.³ The temporary denial order was subsequently renewed on October 3, 2022,⁴ March 29, 2023,⁵ and September 23, 2023 ⁶ in accordance with section 766.24(d) of the Regulations.⁷

³ The TDO was published in the Federal Register on April 12, 2022 (87 FR 21614).

⁴ The October 3, 2022 renewal order was published in the Federal Register on October 7, 2022 (87 FR 60983).

⁵ The March 29, 2023 renewal order was published in the Federal Register on April 4, 2023 (88 FR 19908).

⁶ The September 23, 2023 renewal order was published in the Federal Register on September 28, 2023 (88 FR 66805).

⁷ Section 766.24(d) provides that BIS may seek renewal of a temporary denial order for additional 180-day renewal periods if it believes that renewal is necessary in the public interest to prevent an imminent violation. In cases demonstrating a pattern of repeated, ongoing and/or continuous apparent violations, BIS may request the renewal of a temporary denial order for an additional period not exceeding one year.

On August 27, 2024, BIS, through OEE, submitted a written request for a fourth renewal of the TDO. The written request was made more than 20 days before the TDO's scheduled expiration and, given the temporary suspension of international mail service to Russia, OEE has attempted to deliver a copy of the renewal request to Azur by alternative means in accordance with sections 766.5 and 766.24(d) of the Regulations. No opposition to the renewal of the TDO has been received. On September 20, 2024, an order was issued renewing the Azur TDO based upon ongoing violations of the TDO and the Regulations, including the reexport of aircraft subject to the EAR on flights into Russia from Antalya, Turkey; Hurghada, Egypt; Sharm el-Sheikh, Egypt; and Dalaman, Turkey. Based on additional investigation, OEE has since requested that the address of Azur Air be updated to Azur Air, Office 29, Vzletnaya St. 57, Krasnoyarsk, Russia 660020.

Having considered OEE's request, I find that the address of Azur Air should be modified to reflect this update.

II. Order

It is therefore ordered:

First, Azur Air, Office 29, Vzletnaya St. 57, Krasnoyarsk, Russia 660020, when acting for or on their behalf, any successors or assigns, agents, or employees may not, directly or indirectly, participate in any way in any transaction involving any commodity, software or technology (hereinafter collectively referred to as “item”) exported or to be exported from the United States that is subject to the EAR, or in any other activity subject to the EAR including, but not limited to:

A. Applying for, obtaining, or using any license (except directly related to safety of flight), license exception, or export control document;

B. Carrying on negotiations concerning, or ordering, buying, receiving, using, selling, delivering, storing, disposing of, forwarding, transporting, financing, or otherwise servicing in any way, any transaction involving any item exported or to be exported from the United States that is subject to the EAR except directly related to safety of flight and authorized by BIS pursuant to section 764.3(a)(2) of the Regulations, or engaging in any other activity subject to the EAR except directly related to safety of flight and authorized by BIS pursuant to section 764.3(a)(2) of the Regulations; or

C. Benefitting in any way from any transaction involving any item exported or to be exported from the United States that is subject to the EAR, or from any other activity subject to the EAR except directly related to safety of flight and authorized by BIS pursuant to section 764.3(a)(2) of the Regulations.

Second, that no person may, directly or indirectly, do any of the following:

A. Export, reexport, or transfer (in-country) to or on behalf of Azur any item subject to the EAR except directly related to safety of flight and authorized by BIS pursuant to section 764.3(a)(2) of the Regulations;

B. Take any action that facilitates the acquisition or attempted acquisition by Azur of the ownership, possession, or control of any item subject to the EAR that has been or will be exported from the United States, including financing or other support activities related to a transaction whereby Azur acquires or attempts to acquire such ownership, possession or control except directly related to safety of flight and authorized by BIS pursuant to section 764.3(a)(2) of the Regulations;

C. Take any action to acquire from or to facilitate the acquisition or attempted acquisition from Azur of any item subject to the EAR that has been exported from the United States except directly related to safety of flight and authorized by BIS pursuant to section 764.3(a)(2) of the Regulations;

D. Obtain from Azur in the United States any item subject to the EAR with knowledge or reason to know that the item will be, or is intended to be, exported from the United States except directly related to safety of flight and authorized by BIS pursuant to section 764.3(a)(2) of the Regulations; or

E. Engage in any transaction to service any item subject to the EAR that has been or will be exported from the United States and which is owned, possessed or controlled by Azur, or service any item, of whatever origin, that is owned, possessed or controlled by Azur if such service involves the use of any item subject to the EAR that has been or will be exported from the United States except directly related to safety of flight and authorized by BIS pursuant to section 764.3(a)(2) of the Regulations. For purposes of this paragraph, servicing means installation, maintenance, repair, modification, or testing.

Third, that, after notice and opportunity for comment as provided in section 766.23 of the EAR, any other person, firm, corporation, or business organization related to Azur by ownership, control, position of responsibility, affiliation, or other connection in the conduct of trade or business may also be made subject to the provisions of this Order.

In accordance with the provisions of sections 766.24(e) of the EAR, Azur may, at any time, appeal this Order by filing a full written statement in support of the appeal with the Office of the Administrative Law Judge, U.S. Coast Guard ALJ Docketing Center, 40 South Gay Street, Baltimore, Maryland 21202-4022.

In accordance with the provisions of section 766.24(d) of the EAR, BIS may seek renewal of this Order by filing a written request not later than 20 days before the expiration date. A renewal request may be opposed by Azur as provided in section 766.24(d), by filing a written submission with the Assistant Secretary of Commerce for Export Enforcement, which must be received not later than seven days before the expiration date of the Order.

A copy of this Order shall be provided to Azur, and shall be published in the Federal Register.

This Order is effective immediately and shall remain in effect until September 20, 2025, unless renewed in accordance with section 766.24(d) of the Regulations.

Dated: January 31, 2025.
Kevin J. Kurland,
Acting Assistant Secretary of Commerce for Export Enforcement.

[FR Doc. 2025-02236 Filed 2-4-25; 8:45 am]

BILLING CODE 3510-DT-P